DEPARTMENT OF DEFENSE

Department of the Navy

Notice of Availability and Notice of Public Meetings for the Draft Supplemental Environmental Impact Statement for the Guam and Commonwealth of the Northern Mariana Islands Relocation (2012 Roadmap Adjustments)

AGENCY: Department of the Navy, DoD.

ACTION: Notice.

SUMMARY: Pursuant to Section 102(2)(c) of the National Environmental Policy Act (NEPA) of 1969 (42 U.S. Code [U.S.C.] 4321, et seq.) and the Council of Environmental Quality (CEQ) Regulations for implementing the procedural provisions of NEPA (Title 40 Code of Federal Regulations [CFR] Parts 1500-1508), the Department of the Navy (DoN) announces the availability of the Draft Supplemental Environmental Impact Statement for the Guam and Commonwealth of the Northern Mariana Islands Military Relocation (2012 Roadmap Adjustments) (hereinafter “Draft SEIS”).

The DoN is the lead Federal agency for development of the Draft SEIS. The agencies that have accepted the DoN's invitation to participate as cooperating agencies are the U.S. Air Force, the Federal Aviation Administration, the Federal Highway Administration, the U.S. Environmental Protection Agency Region 9, the U.S. Department of Interior—Office of Insular Affairs, and the U.S. Department of Agriculture.

Pursuant to 40 CFR 1502.9, the DoN prepared this Draft SEIS for the purpose of supplementing the portions of the 2010 Final Environmental Impact Statement (EIS) regarding the establishment on Guam of a cantonment (including family housing), a live-fire training range complex (LFTRC), and associated infrastructure to support the relocation of a substantially reduced number of Marines and dependents than was previously analyzed. By supplementing the 2010 Final EIS, the Draft SEIS advances NEPA's purpose of informing decision-makers and the public about the environmental effects of the DoN's proposed action.

The DoN will conduct three (3) public meetings to receive oral and written comments on the Draft SEIS. Federal agencies, territorial/local governmental agencies, and interested individuals are invited to be present or represented at the public meetings. The meetings will be comprised of two parts: (1) An informational open house and (2) public hearing. All comments will become part of the public record and will help officials make informed decisions on the proposed action. These meetings will also serve to provide information to the public about how the 2011 Programmatic Agreement fulfills the requirements under Section 106 of the National Historic Preservation Act for the proposed action. This notice announces the dates and locations of the public meetings for this Draft SEIS.

DATES: The 60-day public comment period for the Draft SEIS will start on April 18, 2014 Eastern Daylight Time (EDT) (April 19, 2014 Chamorro Standard Time [ChST]) with the publication of a Notice of Availability in the Federal Register by the U.S. Environmental Protection Agency and will end on June 16, 2014 EDT (June 17, 2014 ChST).

The three (3) public meetings will begin with a two-hour open house session where the public can learn more about the proposed action and potential environmental impacts from project team members and subject matter experts. A hearing will follow the open house. The public is encouraged to attend the meetings, which will be held on the following dates, times, and locations:

• Saturday, May 17, 2014, open house from 1:00 p.m. to 3:00 p.m. and public hearing from 3:00 p.m. to 5:00 p.m., Okkodo High School, 660 Route 3, Dededo;

• Monday, May 19, 2014, open house from 5:00 p.m. to 7:00 p.m. and public hearing from 7:00 p.m. to 9:00 p.m., Father Dueñas Memorial School Phoenix Center, 119 Dueñas Lane, Chalan Pago; and

• Tuesday, May 20, 2014, open house from 5:00 p.m. to 7:00 p.m. and public hearing from 7:00 p.m. to 9:00 p.m., Gymnasium, Naval Base Guam—Santa Rita Annex, Bldg. 4177 (former McCool School), Naval Magazine Road, Santa Rita.

Informational posters will be displayed and DoN representatives will be available during the open house portion of the meetings to discuss the proposed action, answer questions, and to accept written comments from the public. A Chamorro interpreter will be available. Oral comments will be recorded during the public hearing portion of the meetings. Speakers will be limited to three (3) minutes to ensure all who wish to speak have an opportunity to do so. If a long statement is to be presented, it should be summarized at the public hearing and the full text submitted in writing.

Interested agencies, individuals, and groups unable to attend the public meetings are encouraged to submit comments by June 17, 2014, ChST. Mailed comments should be postmarked no later than June 17, 2014, ChST to ensure they are considered.

ADDRESSES: The public may provide comments during one of the public meetings, through the project Web site at http://guambuildupeis.us, or by mail at: Joint Guam Program Office Forward, P.O. 153246, Santa Rita, Guam 96915.

The Draft SEIS was distributed to Federal, state, and local agencies, elected officials, and other interested individuals and organizations. The Draft SEIS is available for public review at http://guambuildupeis.us and at the following libraries: University of Guam Robert F. Kennedy Memorial Library, Government Documents, Tan Siu Lin Building, UOG Station, 303 University Drive, Mangilao, GU 96923; and the Nieves M. Flores Memorial Library, 254 Martyr Street, Hagatña, GU 96910. The public may request copies of the Draft SEIS Executive Summary by mail from the Joint Guam Program Office Forward, P.O. 153246, Santa Rita, Guam 96915.

SUPPLEMENTARY INFORMATION: The DoN's proposed action is to construct and operate a cantonment, including family housing, and an LFTRC on Guam to support the Marine Corps relocation. To meet the purpose of and need for the proposed action, the Marine Corps requires facilities that can fully support the missions of the relocated units. These requirements include a cantonment (with family housing and community support facilities) of sufficient size and functional organization to accommodate the reduced and reconfigured number of Marines relocating to Guam per the 2012 Roadmap Adjustments, and an LFTRC that allows for simultaneous use of firing ranges to support individual skills training and related operations. The proposed action also includes the provision of on-site utilities, access roads, and related off-site infrastructure to support the proposed cantonment/family housing and LFTRC.

Background

The Draft SEIS supplements the Final EIS for the “Guam and Commonwealth of the Northern Mariana Islands Military Relocation; Relocating Marines from Okinawa, Visiting Aircraft Carrier Berthing, and Army Air and Missile Defense Task Force” dated July 2010. The Record of Decision (ROD) for the Final EIS was signed on September 20, 2010, and published in the Federal Register (75 FR 60438, September 30, 2010). In the months following the issuance of the ROD, the DoN made adjustments with regards to the LFTRC, including application of a probabilistic methodology that shrank the overall footprint of the Multi-Purpose Machine Gun range. The DoN also formally committed that if the Route 15 area was selected for the LFTRC, DoN would provide for 24 hours a day, 7 days a week access to Pagat Village and Pagat Cave historical sites, to include the trail leading to both. Faced with this new information, the DoN initially elected to prepare an SEIS limited solely to the evaluation of impacts associated with the location, construction, and operation of the LFTRC. The DoN issued its Notice of Intent (NOI) to prepare the SEIS in February 2012 in the Federal Register (77 FR 6787, February 9, 2012). In the NOI, the DoN preliminarily identified five (5) alternatives for the LFTRC: Two (2) were adjacent to Route 15 in northeastern Guam, and three (3) were located at or immediately adjacent to the Naval Magazine (NAVMAG). Public scoping meetings were conducted for the SEIS in March 2012, and the public scoping comment period closed on April 6, 2012. Shortly thereafter, on April 27, 2012, the U.S.-Japan Security Consultative Committee issued a joint statement announcing its decision to adjust the plans outlined in the May 2006 Roadmap for Realignment Implementation. In accordance with these “2012 Roadmap Adjustments,” the DoD adopted a new force posture in the Pacific providing for a materially smaller and reconfigured force on Guam. In conjunction with changes in the mix of personnel involved in the relocation, the adjustments reduced the originally planned relocation of approximately 8,600 Marines with approximately 9,000 dependents to a force of approximately 5,000 Marines with approximately 1,300 dependents. That decision prompted the DoN's review of the actions previously planned for Guam and approved in the September 2010 ROD. This review concluded that while some actions remained unchanged, others, such as the size and location of the cantonment and family housing areas, could significantly change because of the force modification. Therefore, the DoN published a new NOI in the Federal Register (77 FR 61746, October 11, 2012) and amended the scope of the ongoing LFTRC SEIS to add those actions that materially changed due to the new force posture. The DoN conducted additional public scoping meetings for this SEIS in November 2012.

Alternatives Considered

The Draft SEIS analyzes a range of alternatives for the proposed action including the no action alternative. The Draft SEIS analyzes four (4) cantonment/family housing alternatives: Alternative A—Finegayan; Alternative B—Finegayan/South Finegayan; Alternative C—AAFB; and Alternative D—Barrigada. The Draft SEIS analyzes five (5) LFTRC alternatives: Alternative 1—Route 15; Alternative 2—NAVMAG East/West; Alternative 3—NAVMAG North/South; Alternative 4—NAVMAG L-Shaped; and Alternative 5—Andersen Air Force Base Northwest Field (NWF).

The Draft EIS provides information on the affected environment and impacts of the proposed actions for 18 distinct resource areas. These resource areas include water quality, terrestrial biology, socioeconomics and environmental justice, land use, cultural resources, recreation, visual, marine transportation, ground transportation, air quality, noise, and utilities (including water, power and wastewater), among others.

Preferred Alternative

Per the guidance of CEQ, an agency's preferred alternative is the alternative that the agency believes best fulfills its statutory mission and responsibilities, giving consideration to economic, environmental, technical and other factors (40 CFR 1502.14(e)). The DoN considered military requirements, infrastructure and environmental impacts and constraints, and scoping input from the public, resource agencies, and Government of Guam during the process of identifying a preferred alternative. The DoN's preferred alternative is to construct and operate a cantonment (including family housing) at Finegayan (Alternative A) and an LFTRC at NWF (Alternative 5). This combination best meets Marine Corps operational requirements (size and layout), maximizes the use of federal land on Guam, and optimizes operational efficiencies due to the relative proximity of the facilities.

FOR FURTHER INFORMATION CONTACT: Commander Curtis Duncan, Joint Guam Program Office at 703-602-3825. On Guam, contact Major Darren Alvarez, Joint Guam Program Office Forward, at 671-339-3337.

Dated: April 14, 2014.
N.A. Hagerty-Ford,
Commander, Office of the Judge Advocate General, U.S. Navy, Federal Register Liaison Officer.

[FR Doc. 2014-08845 Filed 4-17-14; 8:45 am]

BILLING CODE 3810-FF-P